DEPARTMENT OF TRANSPORTATION

National Highway Traffic Safety Administration

[U.S. DOT Docket Number NHTSA-2010-0124]

Reports, Forms, and Record keeping Requirements

AGENCY: National Highway Traffic Safety Administration (NHTSA), Department of Transportation.

ACTION: Request for public comment on proposed collection of information, extension of comment period.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections. On September 3, 2010, NHTSA published a request for comment on one collection of information for which it intends to seek OMB approval (75 FR 54217). This notice reopens the comment period for this notice.

DATES: Comments must be received on or before December 27, 2010.

ADDRESSES: You may submit comments, identified by the docket number in the heading of this document, by any of the following methods:

• Federal eRulemaking Portal: Go to http://www.regulations.gov. Follow the instructions for submitting comments on the electronic docket site by clicking on “Help” or “FAQ.”

• Hand Delivery: 1200 New Jersey Avenue SE., West Building Ground Floor, Room W12-140, between 9 a.m. and 5 p.m. Eastern Time, Monday through Friday, except Federal holidays.

• Fax: 202-493-2251.

Regardless of how you submit comments, you should mention the docket number of this document.

You may call the Docket Management Facility at 202-366-9826.

Instructions: For detailed instructions on submitting comments and additional information on the rulemaking process, see the Public Participation heading of the Supplementary Information section of this document. Note that all comments received will be posted without change to http://www.regulations.gov, including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html.

Docket: For access to the docket to read background documents or comments received, go to http://www.regulations.gov, or the street address listed above. Follow the online instructions for accessing the dockets.

FOR FURTHER INFORMATION CONTACT: Kil-Jae Hong, NHTSA, 1200 New Jersey Avenue SE., W52-232, NPO-520, Washington, DC 20590. Ms. Hong's telephone number is (202) 493-0524 and e-mail address is kil-jae.hong@dot.gov.

SUPPLEMENTARY INFORMATION: On September 3, 2010, NHTSA published a request for comment on one collection of information for which it intends to seek OMB approval (75 FR 54217). That notice explained that to further NHTSA's development of a national tire fuel efficiency consumer information program required under the Energy Independence and Security Act of 2007,¹ NHTSA is proposing a multi-phased consumer research project and is currently requesting comment on the first phase of that research, which will consist of qualitative focus group market research and tire retailer interviews. On September 27, 2010, NHTSA published an amended request for comment with regards to focus group location, testing for the impact of basing a tire fuel efficiency rating on rolling resistance coefficient (RRC) vs. rolling resistance force (RRF), and testing for the recognition of existing labeling. (75 FR 59319)

¹ Public Law 110-140, 121 Stat. 1492 (Dec. 18, 2007).

NHTSA has recently placed in the docket for this notice draft documents that may assist commenters in elaborating on NHTSA's proposed plan. These documents include a summary of the focus group methodology, screening criteria of focus group participants, the draft focus group discussion guide, the proposed labels that will be shown and discussed, and the tire retailer interview discussion guide.

NHTSA notes that comments have already been sought on and a public meeting has already been held on a draft research plan for the consumer research that is the subject of this collection of information.² The relevance and poignancy of stakeholders' comments may be enhanced by reviewing that draft research plan and comments received in response to the draft research plan and public meeting, as well as comments already received in response to the original request for comments.

² See Docket No. NHTSA-2010-0018.

Issued on: November 18, 2010.
Gregory A. Walter,
Senior Associate Administrator, Policy and Operations.

[FR Doc. 2010-29543 Filed 11-23-10; 8:45 am]

BILLING CODE 4910-59-P